DEPARTMENT OF HEALTH AND HUMAN SERVICES

National Institutes of Health

Submission for OMB Review; 30-Day Comment Request; Generic Clearance for the Collection of Qualitative Feedback on Agency Service Delivery (Eunice Kennedy Shriver National Institute of Child Health and Human Development); Correction

AGENCY: National Institutes of Health, HHS.

ACTION: Notice; correction.

SUMMARY: The Department of Health and Human Services, National Institutes of Health published a Notice in the Federal Register on November 9, 2017. That Notice inadvertently contained an error in the Supplementary Information section.

FOR FURTHER INFORMATION CONTACT: Dr. Jennifer Guimond, Project Clearance Liaison, Office of Science Policy, Reporting, and Program Analysis, Eunice Kennedy Shriver National Institute of Child Health and Human Development, National Institutes of Health, 31 Center Drive, Room 2A18, Bethesda, Maryland 20892 or call non-toll-free number (301) 496-1877 or Email Jennifer.guimond@nih.gov.

SUPPLEMENTARY INFORMATION: On November 9, 2017, the Department of Health and Human Services, National Institutes of Health published a Notice in the Federal Register on page 52067 (82 FR 52067) that inadvertently contained an error in the date of expiration. The purpose of this notice is to correct the expiration date to read: 10/31/2017.

Dated: November 9, 2017.
Jennifer Guimond,
Project Clearance Liaison, Eunice Kennedy Shriver National Institute of Child Health and Human Development, National Institutes of Health.

[FR Doc. 2017-24775 Filed 11-15-17; 8:45 am]

BILLING CODE 4140-01-P